DEPARTMENT OF HEALTH AND HUMAN SERVICES

Food and Drug Administration

21 CFR Part 73

[Docket No. FDA-2023-C-0544]

Innophos, Inc.; Filing of Color Additive Petition

AGENCY: Food and Drug Administration, HHS.

ACTION: Notification of petition.

SUMMARY: The Food and Drug Administration (FDA or we) is announcing that we have filed a petition, submitted by Innophos, Inc., proposing that the color additive regulations be amended to provide for the safe use of tricalcium phosphate in poultry (chicken thigh), icing, white chocolate candy melts, doughnut sugar, and sugar for coated candies.

DATES: The color additive petition was filed on February 1, 2023.

ADDRESSES: For access to the docket to read background documents or

comments received, go to https://www.regulations.gov and insert the docket number found in brackets in the heading of this document into the “Search” box and follow the prompts, and/or go to the Dockets Management Staff, 5630 Fishers Lane, Rm. 1061, Rockville, MD 20852.

FOR FURTHER INFORMATION CONTACT: Rachel Morissette, Center for Food Safety and Applied Nutrition, Food and Drug Administration, 5001 Campus Dr., College Park, MD 20740, 240-402-1212.

SUPPLEMENTARY INFORMATION: Under section 721(d)(1) of the Federal Food, Drug, and Cosmetic Act (21 U.S.C. 379e(d)(1)), we are giving notice that we have filed a color additive petition (CAP 3C0324), submitted by Innophos, Inc., 259 Prospect Plains Road, Building A, Cranbury, New Jersey 08512. The petition proposes to amend the color additive regulations in part 73 (21 CFR part 73), “Listing of Color Additives Exempt from Certification,” to provide for the safe use of tricalcium phosphate in (1) poultry (chicken thigh), (2) icing, (3) white chocolate candy melts, (4) doughnut sugar, and (5) sugar for coated candies.

The petitioner has claimed that this action is categorically excluded under 21 CFR 25.32(k) because the substance is intended to remain in food through ingestion by consumers and is not intended to replace macronutrients in food. If FDA determines a categorical exclusion applies, neither an environmental assessment nor an environmental impact statement is required. If FDA determines a categorical exclusion does not apply, we will request an environmental assessment and make it available for public inspection.

Dated: February 22, 2023.
Lauren K. Roth,
Associate Commissioner for Policy.

[FR Doc. 2023-03955 Filed 2-24-23; 8:45 am]

BILLING CODE 4164-01-P